ENVIRONMENTAL PROTECTION AGENCY

[OPP-2003-0104; FRL-7301-2]

Response to Requests to Cancel Certain Chromated Copper Arsenate (CCA) Wood Preservative Products and Amendments to Terminate Certain Uses of other CCA Products

AGENCY: Environmental Protection Agency (EPA)

ACTION: Notice of a Cancellation Order.

SUMMARY: This notice announces that a cancellation order was signed on March 17, 2003, in response to the use terminations and cancellations voluntarily requested by the registrants of wood preservative pesticide products containing Chromated Copper Arsenate (CCA) pursuant to section 6(f)(1) of the Federal Insecticide, Fungicide, and Rodenticide Act (FIFRA), as amended. In addition to stating the Agency's response to the requests for cancellation of certain CCA products and amendments to terminate certain uses of other CCA products, this notice also addresses the considerable number of comments received in response to the Agency's requests for public comments on the above stated requests. In the cancellation order, the Agency granted certain of the aforementioned requests and did not take any action regarding certain other elements of the requests. Any sale, distribution, or use of affected products listed in this notice will only be permitted if such distribution, sale, or use is consistent with terms and conditions set forth in the cancellation order.

DATES: The effective dates of cancellation are as follows:(1) For affected product registrations—March 17, 2003 (2) For affected product registrations amended to delete terminated uses—May 16, 2003.

FOR FURTHER INFORMATION CONTACT: By mail: Bonaventure Akinlosotu, Office of Pesticide Programs (7510C), Environmental Protection Agency, 1200 Pennsylvania Avenue, N.W., Washington, DC 20460. Office location for commercial courier delivery, telephone number and e-mail address: Rm. 308, Crystal Mall #2, 1921 Jefferson Davis Highway, Arlington, VA 22202, (703) 605-0653; e-mail: akinlosotu.bonaventure@epa.gov.

SUPPLEMENTARY INFORMATION: This announcement consists of five parts. The first part contains general information. The second part provides background, and summarizes the use terminations and product cancellations requested by the CCA product registrants. The third part summarizes the comments received in response to the Agency's request for public comments on the aforementioned registrants' requests, and provides the Agency's response to the comments. The fourth part provides a summary of the Agency's decision on the voluntary cancellation and use termination requests. The fifth part sets forth the existing stocks provisions that the Agency authorized in the cancellation order.

I. General Information

A. Does this Action Apply to Me?

This action is directed to the public in general. You may be potentially affected by this action if you manufacture, sell, distribute, or use CCA products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules” and then look up the entry for this document under the ”Federal Register—Environmental Documents.” You can also go directly to the Federal Register listings at http://www.epa.gov/fedrgstr/.

2. In person. The Agency has established an official record for this action under docket control number OPP-2003-0104. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background and Summary of Registrants' Request to Cancel Products and Delete Uses

On February 22, 2002, the Agency announced the receipt of requests from the registrants of wood preservative pesticide products containing Chromated Copper Arsenate (CCA) to cancel certain CCA products and to amend the registrations to terminate certain uses of other CCA products (67 FR 8244)(FRL-6826-8). Another notice was issued (67 FR 13328, March 22, 2002)(FRL-6831-6) to extend the comment period until April 9, 2002. The requests proposed that only certain uses of CCA be allowed as of December 31, 2003. The registrants stated in their requests that their requests were being made as a result of current and projected market demand for CCA products and the availability of new generation wood treatment products. The Agency considers these voluntary moves toward arsenic-free wood treatment products as a positive step, particularly for our nation's children. The Agency believes that reducing the potential residential exposure to a known human carcinogen is desirable. This transition affects all future residential uses of wood treated with CCA, including wood used in playground structures, decks, picnic tables, landscaping timbers, residential fencing, patios, walkways and boardwalks.

EPA received requests from four registrants (Table 1 of this unit) to cancel 2 products (Table 2 of this unit), and to amend 17 other affected end-use and manufacturing-use registrations to terminate all uses of such products (Table 3 of this unit) with the exception of the treatment of wood products that fall under the American Wood-Preservers' Association (AWPA) standards (based on the 2001 edition of the AWPA Standards) listed in the text of the requested label amendment stated below.

Table 1.—Registrants Requesting Voluntary Termination of Certain Uses and/or Cancellation of Products listed in Tables 2 and 3
EPA Company Number | Company Name and Address
003008 | Osmose, Inc., 980 Ellicott Street, Buffalo, NY 14209
010465 | Chemical Specialties. Inc.,One Woodlawn Green, Suite 250, 200 E. Woodlawn Road, Charlotte, NC 28217
035896 | Phibro-Tech, Inc., Fort Lee, NJ 07024
062190 | Arch Wood Protection, Inc., 1955 Lake Park Drive, Suite 250, Smyrna, GA 30080

Table 2.—Registrations with Requests for Cancellation of Products
Registration Number | Product Name
62190-5 | WolmanacR Concentrate 70%
62190-11 | CCA Type C 50% Chromated Copper Arsenate

Table 3.—Registrations With Requests for Amendments to Terminate Certain Uses
Registration Number | Product Name
End Use Products |
3008-17 | K-33-C (72%) Wood Preservative
3008-21 | Special K-33 Preservative
3008-34 | K-33 (60%) Wood Preservative
3008-35 | K-33 (40%) Type-B Wood Preservative
3008-36 | K-33-C (50%) Wood Preservative
3008-42 | K-33-A (50%) Wood Preservative
3008-72 | Osmose Arsenic Acid 75%
10465-26 | CCA Type-C Wood Preservative 50%
10465-28 | CCA Type-C Wood Preservative 60%
10465-32 | CSI Arsenic Acid 75%
35896-2 | Wood-Last Conc. Wood Preservation AQ 50% Solution CCA-Type A
62190-2 | Wolmanac Concentrate 50%
62190-8 | Wolmanac Concentrate 72%
62190-14 | Wolmanac Concentrate 60%
Manufacturing Use Products |
3008-66 | Arsenic Acid 75%
10465-32 | CSI Arsenic Acid 75%
62190-7 | Arsenic Acid 75%

For affected manufacturing-use products, the label amendments were proposed to read as follows:

Effective December 31, 2003, this product may only be used (1) for formulation of the following end-use wood preservative products: ammoniacal copper zinc arsenate (ACZA) or chromated copper arsenate (CCA) labeled in accordance with the Directions for Use shown below, or (2) by persons other than the registrant, in combination with one or more other products to make: ACZA wood preservative; or CCA wood preservative that is used in accordance with the Directions for Use shown below.

Effective December 31, 2003, this product may only be used for preservative treatment of the following categories of forest products and in accordance with the respective cited standard (noted parenthetically) of the 2001 edition of the American Wood-Preservers Association Standards: Lumber and Timber for Salt Water Use Only (C2), Piles (C3), Poles (C4), Plywood (C9), Wood for Highway Construction (C14), Poles, Piles and Posts Used as Structural Members on Farms, and Plywood Used on Farms (C16), Wood for Marine Construction (C18), Round Poles and Posts Used in Building Construction (C23), Sawn Timber Used To Support Residential and Commercial Structures (C24), Sawn Crossarms (C25), Structural Glued Laminated Members and Laminations Before Gluing (C28), Structural Composite Lumber (C33), and Shakes and Shingles (C34). Forest products treated with this product may only be sold or distributed for uses within the AWPA Commodity Standards under which the treatment occurred.

For affected end-use products, the label amendments were proposed to read as follows:

Effective December 31, 2003, this product may only be used for preservative treatment of the following categories of forest products and in accordance with the respective cited standard (noted parenthetically) of the 2001 edition of the American Wood-Preservers Association Standards: Lumber and Timber for Salt Water Use Only (C2), Piles (C3), Poles (C4), Plywood (C9), Wood for Highway Construction (C14), Poles, Piles and Posts Used as Structural Members on Farms, and Plywood Used on Farms (C16), Wood for Marine Construction (C18), Round Poles and Posts Used in Building Construction (C23), Sawn Timber Used To Support Residential and Commercial Structures (C24), Sawn Crossarms (C25), Structural Glued Laminated Members and Laminations Before Gluing (C28), Structural Composite Lumber (C33), and Shakes and Shingles (C34). Forest products treated with this product may only be sold or distributed for uses within the AWPA Commodity Standards under which the treatment occurred.

In addition, the registrants requested that EPA allow use of the previous (unamended) labels for a period of 60 calendar days from the date on which the particular affected registrant receives EPA's approval of the amendment(s) to terminate use(s), and that EPA allow a further amendment by notification on or before December 1, 2003, to (1) delete the use directions in effect prior to these amendments, and (2) to delete the preface phrase “Effective December 31, 2003,” from the amended labels such that the statement begins by reading, “This product may only be used for preservative treatment of the following categories of forest products and in accordance with the respective cited standard (noted parenthetically) of the 2001 edition of the American Wood-Preservers' Association Standards* * *.” Furthermore, the registrants stated in their letters that they would neither amend nor withdraw their requests for cancellation/use terminations before EPA acts on them. Additionally, the registrants will notify their customers of the amended labels by certified mail after EPA acts on the requests.

III. Summary of Public Comments Received and Agency Response to Comments

The Agency issued a notice of receipt of the aforementioned requests along with a solicitation for public comments (February 22, 2002), followed by another notice to extend the comment period until April 9, 2002 (March 22, 2002). Approximately 6,700 comments were submitted by the wood preservative industry, the chromium industry, the lumber industry, the agricultural industry, Kentucky and Texas State government officials, federal government officials, environmental groups, businesses and private citizens of Corpus Christi, Texas, as well as from others. Based on the nature of the concern(s) expressed, the comments were grouped into four major categories: (1) business and economic concerns from the Agricultural Community and Wood Treatment Industry, (2) concerns with the possible adverse economic impact on the Chromium Industry and Corpus Christi, Texas, (3) concerns raised by Environmental Groups, and (4) other significant, pertinent comments.

Generally, the purpose of soliciting comments pursuant to Section 6(f) of FIFRA is to give an opportunity to comment to those individuals or businesses that would be affected by a registrant's requested action and to those who may want to apply for a registration for a pesticide for which there is a request to cancel the registration or to terminate use(s). This process helps to ensure that EPA is basing its regulatory decisions on the most up-to-date and complete information. The Agency did not specifically solicit comments for the purpose of determining if the voluntary cancellation/use termination requests were comprehensive enough or fast enough. Because these are voluntary cancellation/use termination requests, the registrants have proposed their own terms of cancellation/use termination. This type of public comment opportunity under Section 6(f) differs from the current reregistration public process in that during the reregistration public process the Agency solicits comments on a draft preliminary risk assessment and on draft risk mitigation proposals in anticipation of actions that may not be voluntary. Therefore, the scope of the public comment opportunity in the reregistration process is much broader than the scope of the opportunity in this voluntary cancellation/use termination.

Below is the summary of the comments received in response to EPA's request for public comments, along with the corresponding Agency response.

A. Business and Economic Concerns from the Agricultural Community and Wood Treating Industry

Comments. The majority of the comments received within this category specifically requested that the Agency not accept the request to cancel the use of CCA-treated lumber for agricultural fence posts based on the lack of exposure to children and the higher cost of the alternative products. These comments were received from the wood preservative, chromium, lumber, and agricultural industries, as well as private citizens, businesses, and town officials of Corpus Christi. With respect to exposure to children, the commenters stated their belief that there is little exposure to children from agricultural fencing (as compared to a deck or playground constructed of CCA treated wood) because agricultural fences are generally far away from residences and because children typically do not play on a fence as they would a deck or playground. In addition, the commenters stated that the exclusion of CCA-treated wood for agricultural fence posts from the label would cause an adverse economical impact on the agricultural, lumber, and wood treatment industries due to the higher cost of the alternative treatment products. The commenters stated that the wood treatment plants, the agricultural industry, and the chromium industry may suffer considerable financial and market damage due to the cost of converting wood preserving plants currently treating with CCA to an alternative chemical (estimated cost ranges from $75,000 to $125,000), and the costs of the alternative treatment products (estimated to be 10-15% higher than CCA products at the retail level and 30% higher than CCA products for the agricultural industry). The commenters stated their belief that as a result of the above stated concerns, there will be loss of employment within the industries concerned. The Agency also received a number of comments regarding the use of CCA to treat wood used for permanent wood foundations. The comments received indicated a need to retain this important use and that it posed little opportunity for residential exposure.

Agency's response. The Agency is currently separately from this voluntary cancellation/use termination action, reviewing the exposure and risk (as well as the benefits) of all uses of CCA through its reregistration process. In light of the issues raised by commenters with regard to agricultural fence post and permanent wood foundation uses, EPA believes it is appropriate to evaluate the commenters' concerns during that review. For example, fence posts treated according to AWPA Standard C16 are for agricultural purposes only. This particular type of fence post is used by many farmers and ranchers for barbed and other wire fencing. The distribution channels, aesthetics, size, round shape, and random diameter of that type of fence post effectively limit its use for specific agricultural purposes, and make it inappropriate for residential applications. The Agency has determined, based on available information and field investigations, that agricultural fence posts are not sold into the residential market. On the other hand, wood treated for fence posts according to AWPA Standard C5 is sold at the retail level for residential fencing and can be used for other residential applications as well.

Rather than delay acceptance of other portions of the voluntary cancellation/use termination requests until the reregistration review is complete, EPA has decided to accept the requests for voluntary cancellation/use termination for the other uses and defer any action with respect to requests to terminate agricultural fence post and permanent wood foundation uses until the Agency has evaluated those uses through the reregistration process. If at any time during the reregistration review the Agency determines it has sufficient information to take an action, that is, to either accept or refuse the requests for use termination of those uses, the Agency will take appropriate action. EPA believes this temporary deferral of action is consistent with the principle to phase out CCA for residential uses.

B. Concerns With the Possible Adverse Economic Impact on the Chromium Industry and Corpus Christi, Texas

Comments. Approximately 430 comments were received regarding the potential adverse economic effect from the proposed cancellation or termination of CCA products or treated wood uses on the chromic acid manufacturing plant in Corpus Christi, Texas. The residents of Corpus Christi have within their city limits a plant owned by Elementis Chromium L.P. (Elementis), the only major manufacturer of chromic acid in the United States. This chromic acid plant employs more than 100 residents of the Corpus Christi area and by its supply purchases and salaries, inputs about $40 million per year into the economy of Corpus Christi. Elementis believes the projected 70% decrease in total sales of CCA-treated products 2 years after the amendment is accepted will have adverse economic consequences on the status of the plant operations and the city of Corpus Christi.

Also, the chromium industry and wood treatment industry requested EPA limit its action regarding the phase-out to only CCA-treated playground structures and decks at this time, pending the outcome of the risk assessment being currently conducted by the Agency. It was requested that certain uses of CCA-treated wood, which were proposed for termination be allowed to continue. Specifically, the commenters requested that CCA-treated wood continue to be permitted for the following uses under the AWPA Commodity Standards C2 (Lumber, Timber, Bridge Ties, Mine Ties for above-ground, soil and freshwater use), C5 (Fence Posts), C15 (Wood for Commercial-Residential Construction-Preservative Treatment by Pressure Processes), C16 (Agricultural Fence Posts and certain Wood used on Farms), and C22 (Permanent Wood Foundation Material).

Agency's response. By way of background, under FIFRA, a registration or “license” is issued to an applicant for a pesticide product once all necessary data requirements in support of the registration have been satisfied and the application has been found to be acceptable. In order to obtain a registration for a pesticide under FIFRA, an applicant for registration must demonstrate that the pesticide satisfies the statutory standard for registration. The standard requires, among other things, that the pesticide perform its intended function without causing unreasonable adverse effects on the environment. The term “unreasonable adverse effects on the environment” is defined, among other things, as “any unreasonable risk to man or the environment, taking into account the economic, social, and environmental costs and benefits of the use of any pesticide.”

Under the statute, a registrant may at any time voluntarily request cancellation of a particular pesticide registration or termination of certain uses for the registration. Upon receipt of such requests, the Agency acts upon the requests pursuant to section 6(f) of FIFRA by notifying the public and soliciting comments from the public on the requests received. The Agency reviews the comments and may, based upon the comments received and/or any information or knowledge it may have concerning the pesticide and its uses in the environment, accept or deny the request either in whole or part.

With regard to the comments received from the chromium industry and on behalf of residents of Corpus Christi, Texas, as stated earlier, at this time, the Agency is not acting upon certain use terminations proposed by the registrants. Specifically, the Agency is deferring action on two use terminations addressed in the comments, agricultural fence posts and permanent wood foundations. The Agency will examine such uses as part of its reregistration assessment of CCA products. However, the remaining voluntary cancellation requests were finalized on March 17, 2003, and the use terminations are effective as of May 16, 2003.

C. Concerns Raised by Environmental Groups

Comments. In their comments, the environmental groups (Clean Water Action, Healthy Building Network, and others) expressed concerns with the estimated 75 billion board feet (estimated by the American Wood Preservers Institute) of CCA-treated wood currently in use in residential settings. This proposed voluntary cancellation request affects future residential uses of CCA products but does not address existing CCA-treated wood decks and play structures. The environmental groups urged EPA to complete the CCA risk assessments to determine the dangers posed by CCA-treated wood currently in use. Concerns were also expressed over the safety of building contractors who come into contact with CCA-treated wood used during building construction and with utility workers working with utility poles. As a result, there were requests to extend use restrictions to include all uses, residential and industrial.

The environmental groups also believe that the time frame for the phase-out of CCA-treated wood from residential uses is too lengthy, and that the phase-out is not comprehensive enough. They appeared to assume that CCA-treated plywood would continue to be sold in retail stores indefinitely. The commenters also expressed concerns that the Agency doesn't address proper disposal of CCA-treated wood, and treated wood could be burned or dumped in landfills where it can contaminate soil and groundwater. They suggested that the registration be amended to include proper handling, use and disposal of CCA-treated wood.

Agency's response. The Agency acknowledges the concerns expressed by environmental groups regarding the potential risks of CCA to human health and the environment, and the need to proceed as quickly as possible given the potential risks. The Agency intends to address the commenters' concerns in two ongoing Agency processes in which the risk of the non-cancelled or terminated uses of CCA are currently being assessed. The Agency is currently conducting two risk assessments, one that focuses on children's exposure to CCA from play structures and decks constructed of CCA treated wood (uses of which are terminated pursuant to the cancellation order), and one that focuses on the remaining industrial and marine uses. The result of the children's exposure assessment will serve as the basis for determining if further action is needed concerning existing play structures and decks.

The Agency is also currently examining the use of CCA-treated wood in light of the latest science and safety standards, under EPA's reregistration process. Upon the completion of the overall risk assessment, which will address the remaining uses of CCA and any occupational hazards that may exist from exposure to CCA, and the benefits assessment, the Agency will announce its proposed approach and the public will be afforded an opportunity to provide comments. The Agency will then consider any comments received and make a final determination as to the reregistration eligibility of the remaining uses of CCA.

With respect to the disposal of CCA-treated wood, CCA-treated wood is classified as non-hazardous waste under the Federal Resource Conservation and Recovery Act (RCRA). Disposal of CCA-treated wood is addressed via the Consumer Awareness Program (CAP). The CAP is a voluntary program established in 1986 (and later updated in 2001) by the registrants of CCA products, to protect consumers by providing them with information on the proper handling, use and disposal of CCA-treated wood. Under this program, instructions on the proper handling, use and disposal of CCA-treated wood are disseminated to consumers upon purchasing CCA-treated wood products via the Consumer Safety Information Sheets (CSIS) and/or end tag labeling applied to the wood product itself. EPA also disseminates guidance to consumers to advise against burning CCA-treated wood. Additional information regarding the CAP, handling, use and disposal of CCA-treated wood can be obtained from the Agency's Web site at: http://www.epa.gov/pesticides/citizens/1file.htm.

D. Other Significant Pertinent comments

1. Clarification regarding AWPA Standard C5—comment. An inquiry was made as to the potential decision to allow wood to be treated with CCA for agricultural purposes (fence posts) under AWPA Standard C16 yet questioning why it would be a prohibited use under the AWPA Standard C5.

Agency response. As discussed earlier, the Agency is not taking any action on the requests to delete the agricultural fence post use of wood treated with CCA. Fence posts treated according to AWPA Standard C16 are for agricultural purposes only. This particular type of fence post is used by many farmers and ranchers for barbed and other wire fencing. The distribution channels, aesthetics, size, round shape, and random diameter of that type of fence post effectively limit its use for specific agricultural purposes, and make it inappropriate for residential applications. The Agency has determined, based on available information and field investigations, that agricultural fence posts are not sold into the residential market. Fence posts treated according to AWPA Standard C5, however, are for residential purposes. Prior to the voluntary cancellation/use terminations, the labels permitted wood treated for fence posts according to AWPA standard C5 to be used for residential fencing, and it could also possibly be used for other residential applications as well.

2. CCA-treated wood export restrictions— i. Comment. Comments sought clarification on whether wood treated with CCA can be exported to other countries for use in residential settings.

Agency response. As stated in this notice, under the Cancellation Order, effective December 31, 2003, wood treatment facilities are only allowed to treat wood products with CCA that are intended to be used only for those remaining uses approved on the CCA product label. Wood intended for use in prohibited residential settings may not be treated with CCA after December 30, 2003, unless the product being used is a pre-existing product and such use is permitted by that product label. (See Unit V: “Provisions for Disposition of Existing Stocks”) Because of the method of product manufacture and distribution used in the wood preservation industry, the Agency does not expect any more than de minimus stocks to exist as of December 31, 2003, that do not bear the more restrictive label language. Hence, beginning December 31, 2003, unless the label on the affected product provides otherwise, it would be illegal to treat wood with CCA for any prohibited residential use, regardless of whether the treated wood is to be used in the United States or exported for use in other countries.

3. Request received from American Wood-Preservers Institute (AWPI)—comment. The American Wood-Preservers Institute, which provided comments on behalf of the companies that treat wood, requested that the proposed cancellation date of December 31, 2003, be extended an additional 3-6 months to allow further time for treating plants' transition/conversion to alternative chemicals.

Agency response. The Agency recognizes that the transition to alternative chemicals may pose significant challenges to some stakeholders including wood treaters. However, in their request for voluntary cancellation/use termination, the registrants stated that a 22-month phase-in period was practicable based on the amount of time they believed is required to convert and retrofit the treating plants. The commenters did not present any substantial information that would render the requested time period inappropriate, and therefore EPA is not extending the requested time period.

IV. Summary of Agency's Decision Regarding the Voluntary Cancellation/Use Termination Requests

The Agency has accepted portions of the proposed voluntary cancellation/use termination requests and is deferring action on other portions. As stated earlier, in light of the issues raised by commenters with regard to the agricultural fence post and permanent wood foundation uses, the Agency has decided to defer its decision and action on the registrants' request to terminate these uses until the Agency has evaluated these uses through the reregistration process. If at any time during the reregistration review the Agency determines it has sufficient information to take any action, that is, to either accept or refuse the requests for termination of those uses, the Agency will take appropriate action at that time. EPA's decision on the other portions of the requests for voluntary cancellation/use termination is as follows:

1. The following product registrations were cancelled as of March 17, 2003:

62190-5 | WolmanacR Concentrate 70%
62190-11 | CCA Type C 50% Chromated Copper Arsenate

2. The following manufacturing product registrations were amended to delete certain terminated uses as of May 16, 2003:

3008-66 | Arsenic Acid 75%
10465-32 | CSI Arsenic Acid 75%
62190-7 | Arsenic Acid 75%

For the above identified manufacturing-use products, the accepted amended labeling reads as follows:

Effective December 31, 2003, this product may only be used (1) for formulation of the following end-use wood preservative products: ammoniacal copper zinc arsenate (ACZA) or chromated copper arsenate (CCA) labeled in accordance with the Directions for Use shown below, or (2) by persons other than the registrant, in combination with one or more other products to make: ACZA wood preservative; or CCA wood preservative that is used in accordance with the Directions for Use shown below.

Effective December 31, 2003, this product may only be used for preservative treatment of the following categories of forest products and in accordance with the respective cited standard (noted parenthetically) of the 2001 edition of the American Wood-Preservers Association Standards: Lumber and Timber for Salt Water Use Only (C2), Piles (C3), Poles (C4), Plywood (C9), Wood for Highway Construction (C14), Round, Half Round and Quarter Round Fence Posts (C16), Poles, Piles and Posts Used as Structural Members on Farms, and Plywood Used on Farms (C16), Wood for Marine Construction (C18), Lumber and Plywood for Permanent Wood Foundations (C22), Round Poles and Posts Used in Building Construction (C23), Sawn Timber Used To Support Residential and Commercial Structures (C24), Sawn Crossarms (C25), Structural Glued Laminated Members and Laminations Before Gluing (C28), Structural Composite Lumber (C33), and Shakes and Shingles (C34). Forest products treated with this product may only be sold or distributed for uses within the AWPA Commodity Standards under which the treatment occurred.

3. The following end use product registrations were amended to delete certain terminated uses as of May 16, 2003:

3008-17 | K-33-C (72%) Wood Preservative
3008-21 | Special K-33 Preservative
3008-34 | K-33 (60%) Wood Preservative
3008-35 | K-33 (40%) Type-B Wood Preservative
3008-36 | K-33-C (50%) Wood Preservative
3008-42 | K-33-A (50%) Wood Preservative
3008-72 | Osmose Arsenic Acid 75%
10465-26 | CCA Type-C Wood Preservative 50%
10465-28 | CCA Type-C Wood Preservative 60%
10465-32 | CSI Arsenic Acid 75%
35896-2 | Wood-Last Conc. Wood Preservation AQ 50% Solution CCA-Type A
62190-2 | Wolmanac Concentrate 50%
62190-8 | Wolmanac Concentrate 72%
62190-14 | Wolmanac Concentrate 60%

For the above identified end-use products, the accepted amended label is to read as follows:

Effective December 31, 2003, this product may only be used for preservative treatment of the following categories of forest products and in accordance with the respective cited standard (noted parenthetically) of the 2001 edition of the American Wood-Preservers Association Standards: Lumber and Timber for Salt Water Use Only (C2), Piles (C3), Poles (C4), Plywood (C9), Wood for Highway Construction (C14), Round, Half Round and Quarter Round Fence Posts (C16), Poles, Piles and Posts Used as Structural Members on Farms, and Plywood Used on Farms (C16), Wood for Marine Construction (C18), Lumber and Plywood for Permanent Wood Foundations (C22), Round Poles and Posts Used in Building Construction (C23), Sawn Timber Used To Support Residential and Commercial Structures (C24), Sawn Crossarms (C25), Structural Glued Laminated Members and Laminations Before Gluing (C28), Structural Composite Lumber (C33), and Shakes and Shingles (C34). Forest products treated with this product may only be sold or distributed for uses within the AWPA Commodity Standards under which the treatment occurred.

4. Further amendments to the product label will be made by the registrants of the above identified amended registrations via notification to the Agency on or before December 1, 2003, to: (1) Delete the use directions in effect prior to these amendments, and (2) delete the preface phrase “Effective December 31, 2003,” from the amended labels such that the statement begins by reading, “This product may only be used for preservative treatment of the following categories of forest products and in accordance with the respective cited standard (noted parenthetically) of the 2001 edition of the American Wood-Preservers' Association Standards...” These specific changes may be done via notification.

5. The registrants of the above identified products will notify their customers of the amended registrations/labels by certified mail. This is to ensure that those who are affected by the cancellation order are aware of the labeling changes.

6. The cancellation order included existing stocks provisions as described in Unit V below.

7. The text in 40 CFR 152.132 provides that a distributor (or supplemental registrant) is considered an agent of the registrant for intents and purposes under the act, and both the registrant and the distributor may be held liable for violations pertaining to the distributor product.

V. Provisions for Disposition of Existing Stocks

For purposes of this Order, the term “existing stocks” is defined, pursuant to EPA's existing stocks policy (56 FR 29362, June 26, 1991), as those stocks of a registered pesticide product which are currently in the United States and which have been packaged, labeled, and released for shipment prior to the effective date of the cancellation or amendment. Any distribution, sale or use of existing stocks in a manner inconsistent with the terms of the cancellation order or the existing stocks provisions contained in the order will be considered a violation of section 12(a)(2)(K) and/or section 12(a)(1)(A) of FIFRA. The following summarizes the effective dates of cancellation as well as the existing stocks provisions for each product subject to the cancellation order.

1. Cancelled registrations (Table 2 in Unit II). The effective date of cancellation was March 17, 2003, the date upon which the cancellation order was signed. Registrants have 60 calendar days following the signing of the cancellation order (until May 16, 2003) in which to sell or distribute products listed in Table 2. Registrants were notified of the signing of the cancellation order and of the required changes to labels on the date the order was signed by telephone and facsimile transmission. Any sale, distribution, or use by the registrants of these affected products on or after that date is prohibited. Sale, distribution, or use by persons other than the registrants may continue until supplies are exhausted. Additionally, sale, distribution or use of the stocks by persons other than the registrant in the channels of trade may continue until depleted, provided any sale, distribution, or use is in accordance with the existing label of that product.

2. Registrations amended to delete terminated uses (Table 3). The effective date of the cancellation effectuating the use terminations is May 16, 2003. The registrants' voluntary requests for termination of uses had requested that EPA allow use of the previous (unamended) labels for a period of 60 calendar days from the date on which the particular affected registrant receives EPA's approval of the amendments. The Agency is granting this request by making the effective date of cancellation 60 calendar days following the signing of the cancellation order. Registrants were notified of the signing of the cancellation order and of the required changes to labels on the date the order was signed by telephone and facsimile transmission. This 60-day period is intended to allow a sufficient period of time for an orderly transition to the amended labels without disrupting supply and availability of product. On or after May 16, 2003, any sale, distribution, or use of existing stocks by the registrants of the subject registrations is prohibited. Sale, distribution, or use by persons other than the registrants may continue until supplies are exhausted. Additionally, sale, distribution or use of the stocks in the channels of trade by persons other than the registrant may continue until depleted, provided any sale, distribution or use is in accordance with the existing label of that product.

List of Subjects

Environmental protection, Chromated Copper Arsenate, Pesticides and pests.

Dated: March 27, 2003.
Jack E. Housenger,
Acting Director, Antimicrobials Division, Office of Pesticide Programs.

[FR Doc. 03-8372 Filed 4-8-03; 8:45 am]

BILLING CODE 6560-50-S